DEPARTMENT OF COMMERCE

National Oceanic and Atmospheric Administration

[I.D. 031604D]

Pacific Fishery Management Council; Public Meeting

AGENCY: National Marine Fisheries Service (NMFS), National

Oceanic and Atmospheric Administration (NOAA), Commerce.

ACTION: Notice of public meetings.

SUMMARY: The Pacific Fishery Management Council (Council) and its advisory entities will hold public meetings.

DATES: The Council and its advisory entities will meet April 4-9, 2004. The Council meeting will begin on Monday, April 5, at 11 a.m., reconvening each day through Friday. All meetings are open to the public, except a closed session will be held from 11 a.m. until 1 p.m. on Monday, April 5 to address litigation and personnel matters. The Council will meet as late as necessary each day to complete its scheduled business.

ADDRESSES: The meetings will be held at the Red Lion Hotel Sacramento, 1401 Arden Way, Sacramento, CA 95815; telephone: 916-922-8041.

Council address: Pacific Fishery Management Council, 7700 NE Ambassador Place, Suite 200, Portland, OR 97220.

FOR FURTHER INFORMATION CONTACT: Dr. Donald O. McIsaac, Executive Director; telephone: 503-820-2280.

SUPPLEMENTARY INFORMATION: The following items are on the Council agenda, but not necessarily in this order:

A. Call to Order

1. Opening Remarks and Introductions

2. Roll Call

3. Executive Director's Report

4. Approve Agenda

B. Administrative Matters

1. Approval of Council Meeting Minutes

2. Regulatory Streamlining Process

3. Fiscal Matters

4. Appointments to Advisory Bodies, Standing Committees, and Other Forums

5. Staff Workload Priorities and Draft June 2004 Council Meeting Agenda

C. Groundfish Management

1. NMFS Report

2. Groundfish Allocation Recommendations

3. Groundfish Management Team Check-in on Inseason Management Issues (If Necessary)

4. Observer Data and Model Implementation

5. Policy on Groundfish Management Information Usage

6. Essential Fish Habitat (EFH) Environmental Impact Statement (EIS)

7. Status of 2004 Groundfish Fisheries and Inseason Adjustments

8. Final Harvest Levels for 2005-06 Fisheries

9. Review of Experimental Fishery Permit (EFP) Activities for 2003 and Initial Concepts for 2005-06

10. Stock Assessment Planning for 2007-08 Fisheries Management

11. Fishery Management Plan (FMP) Amendment 16-3: Rebuilding Plans for Cowcod, and Widow and Yelloweye Rockfish

12. Bycatch Programmatic EIS

13. Adoption of 2005-06 Proposed Management Alternatives for Public Review

14. Latent Limited Entry Trawl Permits

15. Inseason

D. Salmon Management

1. Identification of Stocks Not Meeting Conservation Objectives for Three Consecutive Years

2. Methodology Review Process for 2004

3. Final Action on 2004 Salmon Management Measures

E. Habitat

Current Habitat Issues

F. Pacific Halibut Management

Adopt Final 2004 Incidental Catch Regulations for Salmon Troll and Fished Gear Sablefish Fisheries

G. Highly Migratory Species Management

1. NMFS Report

2. Endangered Species Act Considerations Related to Sea Turtle/Longline Fishery Interactions

3. FMP Amendment for Limited Entry in the High Seas Pelagic Longline Fishery

SCHEDULE OF ANCILLARY MEETINGS

SUNDAY, April 4, 2004

Groundfish Management Team 9 a.m.

Klamath Fishery Management Council 3 p.m.

MONDAY, April 5, 2004

Council Secretariat 8 a.m.

Salmon Advisory Subpanel 8 a.m.

Salmon Technical Team 8 a.m.

Scientific and Statistical Committee 8 a.m.

Groundfish Advisory Subpanel 8 a.m.

Groundfish Management Team 8 a.m.

Joint Committees Briefing on EFH EIS 9 a.m.

Habitat Committee 9 a.m.

Enforcement Consultants 4 p.m.

Klamath Fishery Management Council As necessary

Tribal Policy Group As necessary

Tribal and Washington Technical Group As necessary

TUESDAY, April 6, 2004

Council Secretariat 7 a.m.

California State Delegation 7 a.m.

Oregon State Delegation 7 a.m.

Washington State Delegation 7 a.m.

Groundfish Advisory Subpanel 8 a.m.

Groundfish Management Team 8 a.m.

Highly Migratory Species Management Team 8 a.m.

Scientific and Statistical Committee 8 a.m.

Salmon Advisory Subpanel 8 a.m.

Salmon Technical Team 8 a.m.

Klamath Fishery Management Council As necessary

Tribal Policy Group As necessary

Tribal and Washington Technical Group As necessary

Enforcement Consultants 5:30 p.m.

WEDNESDAY, April 7, 2004

Council Secretariat 7 a.m.

California State Delegation 7 a.m.

Oregon State Delegation 7 a.m.

Washington State Delegation 7 a.m.

Groundfish Advisory Subpanel 8 a.m.

Groundfish Management Team 8 a.m.

Highly Migratory Species Advisory Subpanel 8 a.m.

Salmon Advisory Subpanel 8 a.m.

Salmon Technical Team 8 a.m.

Klamath Fishery Management Council As necessary

Tribal Policy Group As necessary

Tribal and Washington Technical Group As necessary

Enforcement Consultants As necessary

THURSDAY, April 8, 2004

Council Secretariat 7 a.m.

California State Delegation 7 a.m.

Oregon State Delegation 7 a.m.

Washington State Delegation 7 a.m.

Groundfish Advisory Subpanel 8 a.m.

Groundfish Management Team 8 a.m.

Salmon Advisory Subpanel 8 a.m.

Salmon Technical Team 8 a.m.

Tribal Policy Group As necessary

Tribal and Washington Technical Group As necessary

Enforcement Consultants As necessary

FRIDAY, April 9, 2004

Council Secretariat 7 a.m.

California State Delegation 7 a.m.

Oregon State Delegation 7 a.m.

Washington State Delegation 7 a.m.

Groundfish Management Team As necessary

Salmon Advisory Subpanel As necessary

Salmon Technical Team As necessary

Tribal Policy Group As necessary

Tribal and Washington Technical Group As necessary

Enforcement Consultants As necessary

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at 503- 820-2280 at least 5 days prior to the meeting date.

Dated: March 16, 2004.
Bruce C. Morehead,
Acting Director, Office of Sustainable Fisheries, National Marine Fisheries Service.

[FR Doc. 04-6227 Filed 3-18-04; 8:45 am]

BILLING CODE 3510-22-S